ENVIRONMENTAL PROTECTION AGENCY

[FRL-9529-2]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1463.09; National Oil and Hazardous Substances Pollution Contingency Plan (NCP) (Renewal); 40 CFR 300.430 and 300.435; was approved on 02/01/2013; OMB Number 2050-0096; expires on 02/29/2016; Approved without change. EPA ICR Number 1571.10; General Hazardous Waste Facility Standards (Renewal); 40 CFR 264.12, 264.13(a) and (c), 264.15(d), 264.16(d) and (e), 264.17(c), 264.37(b), 264.53, 264.54, 264.56(a), (d), (i), and (j), 264.73(a) and (b), 264.74, 264.96, 264.97(g), 264.101(b) and (c), 264.113(a), (b) and (d), 264.115, 264.116, 264.119(a) and (b), 264.120, 264.142(b) and (d), 264.143, 264.144(b), (c) and (d), 264.145, 264.147, 264.148, 264.151, 264.174, 264.193(i), 264.195, 264.226(a) and (b), 264.279, 264.303(a) and (b), 264.309, 264.347, 264.574, 265.12, 265.13(a), (b) and (c), 265.15(b) and (d), 265.16(d) and (e), 265.19(b) and (d), 265.51, 265.52, 265.53, 265.54, 265.56, 265.73(a) and (b), 265.74, 265.112, 265.113(a), (b) and (d), 265.115, 265.116, 265.118, 265.119, 265.120, 265.142, 265.143, 265.144, 265.145, 265.147, 265.148, 265.149, 265.150, 265.174, 265.193, 265.195, 265.197(c), 265.200, 265.225, 265.226, 265.260, 265.273, 265.279, 265.341, 265.347, 265.377, 265.403, 265.444, 265.445, 266.80(b), 268.4(a)(2), 270.30(i), (j), (k) and (l); was approved on 02/04/2013; OMB Number 2050-0120; expires on 02/29/2016; Approved without change.

EPA ICR Number 1128.10; NSPS for Secondary Lead Smelters; 40 CFR part 60 subparts A and L; was approved on 02/04/2013; OMB Number 2060-0080; expires on 02/29/2016; Approved without change.

EPA ICR Number 0976.16; 2013 Hazardous Waste Report, Notification of Regulated Waste Activity, and Part A Hazardous Waste Permit Application and Modification (Revision); 40 CFR 262.12, 262.40, 262.41, 262.75, 263.11, 264.1, 264.11, 264.75, 265.1, 265.22, 265.75, 266.21, 266.23, 266.70, 266.80, 266.100, 266.108, 270.1, 270.11, 270.13, 270.30, 270.70, 270.72, 273.32, 273.60, 279.42, 279.62, and 279.73; was approved on 02/08/2013; OMB Number 2050-0024; expires on 12/31/2014; Approved without change.

EPA ICR Number 2357.04; Regulations.gov Exchange Information Collection; was approved on 02/08/2013; OMB Number 2025-0008; expires on 02/29/2016; Approved without change.

EPA ICR Number 0277.16; Application for New and Amended Pesticide Registration (Renewal); 40 CFR part 158; was approved on 02/14/2013; OMB Number 2070-0060; expires on 02/29/2016; Approved with change.

EPA ICR Number 1130.10; NSPS for Grain Elevators; 40 CFR part 60 subparts A and DD; was approved on 02/15/2013; OMB Number 2060-0082; expires on 02/29/2016; Approved with change.

EPA ICR Number 1093.10; NSPS for Surface Coating of Plastic Parts for Business Machines; 40 CFR part 60 subparts A and TTT; was approved on 02/25/2013; OMB Number 2060-0162; expires on 02/29/2016; Approved without change.

EPA ICR Number 2177.05; NSPS for Stationary Combustion Turbines; 40 CFR part 60 subparts A and KKKK; was approved on 02/25/2013; OMB Number 2060-0582; expires on 02/29/2016; Approved without change.

EPA ICR Number 1900.05; NSPS for Small Municipal Waste Combustors; 40 CFR part 60 subparts A and AAAA; was approved on 02/25/2013; OMB Number 2060-0423; expires on 02/29/2016; Approved without change.

EPA ICR Number 2078.05; EPA's ENERGY STAR Product Labeling (Renewal); was approved on 02/25/2013; OMB Number 2060-0528; expires on 02/29/2016; Approved with change.

John Moses,
Director, Collections Strategies Division.

[FR Doc. 2013-05599 Filed 3-11-13; 8:45 am]

BILLING CODE 6560-50-P